DEPARTMENT OF HOMELAND SECURITY

Federal Emergency Management Agency

44 CFR Part 67

[Docket No. FEMA-B-1020]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 17, 2009.

ADDRESSES: The corresponding preliminary Flood Insurance Rate Map (FIRM) for the proposed BFEs for each community are available for inspection at the community's map repository. The respective addresses are listed in the table below.

You may submit comments, identified by Docket No. FEMA-B-1020, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet(NGVD) + Elevation in feet(NAVD) # Depth in feet above ground: Effective | * Elevation in feet(NGVD) + Elevation in feet(NAVD) # Depth in feet above ground: Modified | Communities affected
St. Joseph County, Indiana, and Incorporated Areas
Baugo Creek | Approximately 300 feet upstream of confluence with St. Joseph River/Baugo Bay | +718 | +719 | Town of Osceola, Unincorporated Areas of St. Joseph County.
| Approximately 100 feet upstream of county boundary with Elkhart County | None | +726
Judy Creek | Approximately 1,950 feet upstream of Kenilwood Road | +712 | +711 | Town of Roseland.
| Approximately 1,825 feet downstream of Indiana East-West Toll Road | +713 | +712
Kieffer Creek | Approximately 550 feet upstream of confluence with St. Joseph River | None | +690 | City of South Bend, Unincorporated Areas of St. Joseph County.
| Approximately 1,850 feet upstream of Hollyhock Road | +721 | +722
Potato Creek | Approximately 280 feet downstream of Cemetery Road | None | +709 | Town of North Liberty.
| Approximately 980 feet upstream of Cemetery Road | None | +712
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of South Bend
Maps are available for inspection at 227 West Jefferson Blvd, Suite 400 S, South Bend, IN 46601.
Town of North Liberty
Maps are available for inspection at 300 South Main Street, North Liberty, IN 46554.
Town of Osceola
Maps are available for inspection at 850 Lincoln Way West, Osceola, IN 46561.
Town of Roseland
Maps are available for inspection at 200 Independence Drive, Roseland, IN 46637.
Unincorporated Areas of St. Joseph County
Maps are available for inspection at 227 W. Jefferson Blvd, Room 732, South Bend, IN 46601.
Cameron Parish County, Louisiana, and Incorporated Areas
Calcasieu Lake | Base Flood Elevation Changes ranging from 8 to 16 feet in the form of Coastal AE/VE Zones have been made | +6-13 | +8-16 | Unincorporated Areas of Cameron Parish.
Grand Lake/Mermentau Lake | Base Flood Elevation Changes ranging from 8 to 11 feet in the form of Coastal AE/VE Zones have been made | +6-12 | +8-11 | Unincorporated Areas of Cameron Parish.
Gulf of Mexico | Base Flood Elevation Changes ranging from 6 to 22 feet in the form of Coastal AE/VE Zones have been made. | +4-21 | +6-22 | Unincorporated Areas of Cameron Parish.
Sabine Lake | Base Flood Elevation Changes ranging from 10 to 14 feet in the form of Coastal VE Zones have been made | +8-13 | +10-14 | Unincorporated Areas of Cameron Parish.
White Lake | Base Flood Elevation Changes ranging from 8 to 12 feet in the form of Coastal VE Zones have been made for transects extended from White Lake into Cameron Parish from Vermillion Parish | +10-13 | +8-12 | Unincorporated Areas of Cameron Parish.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Cameron Parish
Maps are available for inspection at 119 Smith Circle, Cameron, LA 70631.
Custer County, Montana, and Incorporated Areas
Tongue River | Approximately 1,605 Feet upstream of confluence with Yellowstone River | +2360 | +2359 | Unincorporated Areas of Custer County, City of Miles City.
| Approximately 5,315 Feet upstream of Interstate 94 | None | +2375
Tongue River Split 1 | Approximately 1,450 Feet upstream of confluence with Yellowstone River | None | +2353 | Unincorporated Areas of Custer County, City of Miles City.
| Approximately 2,430 Feet upstream of 4th Street | None | +2358
Tongue River Split 2A | Approximately 2,135 Feet upstream of confluence with Yellowstone River | None | +2348 | Unincorporated Areas of Custer County, City of Miles City.
| Approximately 185 Feet upstream of Montana Avenue | None | +2358
Tongue River Split 2B | Just downstream of the intersection of Palmer Street and 9th Street | None | +2359 | City of Miles City.
| Approximately 705 Feet upstream of Pleasant St | None | +2360
Tongue River Split 2C | Approximately 380 Feet upstream of Palmer Street | None | +2359 | City of Miles City.
| Approximately 1,145 Feet upstream of Pacific Avenue | None | +2363
Tongue River Split 3A | Approximately 300 Feet upstream of confluence with Tongue River Split 2A | None | +2346 | Unincorporated Areas of Custer County, City of Miles City.
| Approximately 290 Feet upstream of Leighton Street | None | +2358
Tongue River Split 3B | Just downstream of Pleasant Street | None | +2360 | Unincorporated Areas of Custer County, City of Miles City.
| Approximately 75 Feet upstream of 4th Avenue | None | +2365
Tongue River Split 3C | Approximately 130 Feet downstream of Palmer Street | None | +2358 | Unincorporated Areas of Custer County, City of Miles City.
| Approximately 1,465 Feet upstream of Balsam Drive | None | +2368
Yellowstone River | Approximately 22,675 Feet downstream of State Highway 59 | None | +2336 | Unincorporated Areas of Custer County, City of Miles City.
| Approximately 11,500 Feet upstream of State Highway 59 | None | +2363
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Miles City
Maps are available for inspection at 17 South 8th Street, Miles City, MT 59301.
Unincorporated Areas of Custer County
Maps are available for inspection at 1010 Main Street, Miles City, MT 59301.
Coshocton County, Ohio, and Incorporated Areas
Muskingum River | 170 feet upstream of railroad crossing over Muskingum River east of Conesville | None | +737 | Village of Conesville.
| 260 feet upstream of railroad crossing over Muskingum River east of Conesville | None | +737
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of Conesville
Maps are available for inspection at Coshocton County Engineer Office, 23194 County Road 621, Coshocton, OH 43812.

(Catalog of Federal Domestic Assistance No. 97.022, “Flood Insurance.”)

Dated: November 13, 2008.
Michael K. Buckley,
Acting Assistant Administrator, Mitigation Directorate, Department of Homeland Security, Federal Emergency Management Agency.

[FR Doc. E8-27478 Filed 11-18-08; 8:45 am]

BILLING CODE 9110-12-P